DEPARTMENT OF COMMERCE

National Oceanic and Atmospheric Administration

RIN 0648-XF446

Pacific Fishery Management Council; Public Meeting

AGENCY: National Marine Fisheries Service, National Oceanic and Atmospheric Administration, Commerce.

ACTION: Notice; public meeting.

SUMMARY: The Pacific Fishery Management Council's Ad Hoc Ecosystem Workgroup will hold a webinar, which is open to the public.

DATES: The webinar will be held on Monday, June 19, 2017, from 2 p.m. to 4:30 p.m., or when business for the day is completed.

ADDRESSES: To join the webinar visit this link: http://www.gotomeeting.com/online/webinar/join-webinar. Enter the Webinar ID: 473-224-379. Enter your name and email address (required). You must use your telephone for the audio portion of the meeting by dialing this TOLL number +1 (631) 992-3221. Enter the Attendee phone audio access code 887-175-225. Enter your audio phone pin (shown after joining the webinar). Note: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the GoToMeeting WebinarApps). You may send an email to Mr. Kris Kleinschmidt (kris.kleinschmidt@noaa.gov) or contact him at (503) 820-2411 for technical assistance. A public listening station will also be provided at the Pacific Council office.

Council office address: Pacific Fishery Management Council, 7700 NE. Ambassador Place, Suite 101, Portland, OR 97220-1384.

FOR FURTHER INFORMATION CONTACT: Dr. Kit Dahl, Pacific Council Staff Officer; phone: (503) 820-2422; email: kit.dahl@noaa.gov.

SUPPLEMENTARY INFORMATION: In March 2017, the Pacific Council requested the EWG to discuss the two ecosystem initiatives identified in Appendix A to the Council's Fishery Ecosystem Plan: A combined initiative on the socio-economic effects of fisheries management practices on fishing communities (A.2.7) and on human recruitment to the fisheries (A.2.6), and an initiative on the effects of near-term climate shift and long-term climate change on our fish, fisheries, and fishing communities (A.2.8). The EWG intends to discuss the specific objectives of the initiatives, inventory available information, and propose a timeline for completing either or both initiatives. The Council directed the EWG to report back at the September 2017 Pacific Council meeting. The purpose of this webinar is for the EWG to discuss the tasks outlined above and begin planning their report for the September 2017 Pacific Council meeting.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2411 at least 10 business days prior to the meeting date.

Dated: May 30, 2017.
Tracey L. Thompson,
Acting Deputy Director, Office of Sustainable Fisheries, National Marine Fisheries Service.

[FR Doc. 2017-11429 Filed 6-1-17; 8:45 am]

BILLING CODE 3510-22-P